DEPARTMENT OF TRANSPORTATION

Federal Motor Carrier Safety Administration

[Docket No. FMCSA-2011-0010]

Qualification of Drivers; Exemption Applications; Vision

AGENCY: Federal Motor Carrier Safety Administration (FMCSA), DOT.

ACTION: Notice of applications for exemptions; request for comments.

SUMMARY: FMCSA announces receipt of applications from 23 individuals for exemption from the vision requirement in the Federal Motor Carrier Safety Regulations. If granted, the exemptions would enable these individuals to qualify as drivers of commercial motor vehicles (CMVs) in interstate commerce without meeting the Federal vision standard.

DATES: Comments must be received on or before March 24, 2011.

ADDRESSES: You may submit comments bearing the Federal Docket Management System (FDMS) Docket No. FMCSA-2011-0010 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, 9 a.m. and 5 p.m., Monday through Friday, except Federal holidays Room W12-140, 1200 New Jersey Avenue, SE., Washington, DC, between.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 23 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Jody L. Baker

Mr. Baker, age 38, has had a retinal detachment and cystoid macular edema in his right eye since 2000. The visual acuity in his right eye is 20/20 and in his left eye, count-finger vision. Following an examination in 2010, his ophthalmologist noted, “Mr. Baker, it is my opinion, without reservation, that you have sufficient vision to perform the driving tasks required to operate a commerical vehicle.” Mr. Baker reported that he has driven straight trucks for 17 years, accumulating 1.2 million miles. He holds a Class E operator's license from Missouri. His driving record for the last 3 years shows no crashes and no convictions for moving violations in a CMV.

Gary W. Balcom

Mr. Balcom, 69, has had age related macular degeneration since 2007. The best corrected visual acuity in his right eye is 20/400 and in his left eye, 20/20. Following an examination in 2010, his optometrist noted, “I certify that, in my medical opinion, Mr. Balcom has sufficient vision to perform the driving tasks required to operate a commercial vehicle.” Mr. Balcom reported that he has driven buses for 7 years, accumulating 165,438 miles. He holds a Class B Commercial Driver's License (CDL) from Michigan. His driving record for the last 3 years shows no crashes and no convictions for moving violations in a CMV.

Jimmie L. Blue

Mr. Blue, 71, has had juveline macular degeneration that has been present in both eyes since age 21. The best corrected visual acuity in his right eye is 20/100 and in his left eye, 20/30. Following an examination in 2010, his optometrist noted, “Thus it is my opinion that he has sufficient vision to perform the driving tasks required to operate a commercial vehicle.” Mr. Blue reported that he has driven tractor-trailer combinations for 45 years, accumulating 29 million miles. He holds a Class A CDL from Montana. His driving record for the last 3 years shows no crashes and one conviction for a moving violation in a CMV; he was driving on the wrong side of the road.

Ronald Cook

Mr. Cook, 53, has had optic nerve hypoplasia in his right eye since birth. The best corrected visual acuity in his right eye is 20/60 and in his left eye, 20/20. Following an examination in 2010, his optometrist noted, “In my opinion, Mr. Cook is capable of the visual tasks required to operate a commercial vehicle.” Mr. Cook reported that he has driven straight trucks for 25 years, accumulating 150,000 miles and tractor-trailer combinations for 25 years, accumulating 187,500 miles. He holds a Class A CDL from Alabama. His driving record for the last 3 years shows one crash in a CMV, for which he was not cited, and no convictions for moving violations in a CMV.

James H. Corby

Mr. Corby, 40, has loss of vision in his right eye due to corneal graft surgery in 2000. The best corrected visual acuity in his right eye is hand motion vision and in his left eye, 20/20. Following an examination in 2010, his optometrist noted, “In my medical opinion, Jim can continue to drive a commercial vehicle, as he has done for the last three years.” Mr. Corby reported that he has driven straight trucks for 3 years, accumulating 15,600 miles. He holds a Class C operator's license from Pennsylvania. His driving record for the last 3 years shows no crashes and no convictions for moving violations in a CMV.

Bobby D. Cox

Mr. Cox, 62, has had central vision loss in his right eye due to macular hemes and scarring since 2002. The visual acuity in his right eye is 20/400 and in his left eye, 20/20. Following an examination in 2010, his optometrist noted, “In my professional opinion, Mr. Cox should have no difficulty performing his duties while driving a commercial vehicle and should continue driving as he has previously.” Mr. Cox reported that he has driven straight trucks for 15 years, accumulating 262,500 miles and tractor-trailer combinations for 19½ years accumulating 1.7 million miles. He holds a Class A CDL from Tennessee. His driving record for the last 3 years shows no crashes and no convictions for moving violations in a CMV.

Wesley M. Creamer

Mr. Creamer, 46, has had a nuclear cataract in his left eye due to an injury sustained at age 9. The best corrected visual acuity in his right eye is 20/20 and in his left eye, 20/400. Following an examination in 2010, his optometrist noted, “I believe he has sufficient vision to perform the driving tasks required to operate a commerical vehicle.” Mr. Creamer reported that he has driven straight trucks for 15½ years, accumulating 77,500 miles and tractor-trailer combinations for 18 years, accumulating 270,000 miles. He holds a Class A CDL from New Mexico. His driving record for the last 3 years shows no crashes and two convictions for speeding in a CMV. In the first incidence, he exceeded the speed limit by 10 miles per hour (MPH) and in the second incidence, he exceeded the speed limit by 8 MPH.

Gerald S. Dennis

Mr. Dennis, 51, has had strabismic amblyopia in his right eye since birth. The best corrected visual acuity in his right eye is 20/200 and in his left eye, 20/20. Following an examination in 2010, his optometrist noted, “In my medical opinion, Gerald Dennis, has sufficient vision to perform the driving tasks required to operate a commercial vehicle.” Mr. Dennis reported that he has driven straight trucks for 4 years, accumulating 110,000 miles. He holds a Class D operator's license from Iowa. His driving record for the last 3 years shows no crashes and no convictions for moving violations in a CMV.

Cleveland E. Edwards

Mr. Edwards, 39, has had refractive amblyopia in his left eye since birth. The best corrected visual acuity in his right eye is 20/20 and in his left eye, 20/800. Following an examination in 2010, his optometrist noted, “I certify that Cleveland Edwards has sufficient vision to perform the driving tasks required to operate a commercial vehicle.” Mr. Edwards reported that he has driven straight trucks for 3 years, accumulating 93,504 miles and tractor-trailer combinations for 6 months, accumulating 24,600 miles. He holds a Class D operator's license from Kentucky. His driving record for the last 3 years shows no crashes and no convictions for moving violations in a CMV.

Thomas Grandfield

Mr. Grandfield, 65, has had amblyopia in his right eye since childhood. The best corrected visual acuity in his right eye is 20/200 and in his left eye, 20/20. Following an examination in 2010, his ophthalmologist noted, “I certify in my medical opinion, that Thomas Grandfield has sufficient vision to perform the driving tasks required to operate a commercial vehicle.” Mr. Grandfield reported that he has driven straight trucks for 37 years, accumulating 270,100 miles. He holds a Class D operator's license from Massachusetts. His driving record for the last 3 years shows no crashes and no convictions for moving violations in a CMV.

Bruce J. Greil

Mr. Greil, 55, has had decreased vision in his right eye since 1990 due to coate's disease and a retinal detachment. The best corrected visual acuity in his right eye is 20/400 and in his left eye, 20/20. Following an examination in 2010, his optometrist noted, “Bruce's vision is stable and his vision is adequate to perform all required driving tasks associated with a commercial vehicle.” Mr. Greil reported that he has driven straight trucks for 34 years, accumulating 1.6 million miles. He holds a Class B CDL from Wisconsin. His driving record for the last 3 years shows no crashes and no convictions for moving violations in a CMV.

Johnnie L. Hall

Mr. Hall, 51, has myopic degeneration and moderate amblyopia in his left eye since childhood. The best corrected visual acuity in his right eye is 20/25 and in his left eye, 20/100. Following an examination in 2010, his opthalmologist noted, “In my medical opinion, he should continue to drive commercial vehicles.” Mr. Hall reported that he has driven straight trucks for 25 years, accumulating 650,000 miles and tractor-trailer combinations for 25 years, accumulating 1.4 million miles. He holds a Class A CDL from Maryland. His driving record for the last 3 years shows no crashes and no convictions for moving violations in a CMV.

Jerry L. Hofer

Mr. Hofer, 58, has had a prosthetic left eye due to an eye injury sustained at age 5. The best corrected visual acuity in his right eye is 20/15. Following an examination in 2010, his optometrist noted, “Mr. Hofer's vision has been stable for many years and I believe he has adequate vision to drive and operate a commerical vehicle safely.” Mr. Hofer reported that he has driven buses for 4.9 years, accumulating 31,850 miles. He holds a Class B CDL from New Mexico. His driving record for the last 3 years shows no crashes and no convictions for moving violations in a CMV.

Charles R. Hoeppner

Mr. Hoeppner, 64, has had refractive amblyopia in his right eye since childhood. The best corrected visual acuity in his right eye is 20/200 and in his left eye, 20/20. Following an examination in 2010, his optometrist noted, “According to the guidelines set by the U.S. Department of Transportation, Federal Motor Carrier Safety Administration, this patient has sufficient vision to perform the driving tasks required to operate a commercial vehicle.” He holds a Class C operator's license from Maryland. His driving record for the last 3 years shows no crashes and no convictions for moving violations in a CMV.

Lester H. Killingsworth

Mr. Killingsworth, 57, has had ambloypia in his left eye since birth. The best corrected visual acuity in his right eye is 20/20 and in his left eye, 20/200. Following an examination in 2010, his optometrist noted, “Therefore, in my medical opinion, I certify that Mr. Killingsworth has sufficient vision to operate a commercial vehicle.” Mr. Killingsworth reported that he has driven straight trucks for 4½ years, accumulating 540,000 miles. He holds a Class A CDL from Texas. His driving record for the last 3 years shows no crashes and no convictions for moving violations in a CMV.

Joseph F. Lopez, III

Mr. Lopez, 53, has had a prosthetic right eye since childhood. The best corrected visual acuity in his left eye is 20/20. Following an examination in 2010, his optometrist noted, “In my opinion, Joseph Lopez has sufficient vision to perform the driving tasks required to operate a commercial vehicle.” Mr. Lopez reported that he has driven straight trucks for 3 years, accumulating 24,000 miles. He holds a Class D operator's license from Illinois. His driving record for the last 3 years shows no crashes and no convictions for moving violations in a CMV.

Thomas E. Moore

Mr. Moore, 56, has had amblyopia in his right eye since childhood. The best corrected visual acuity in his right eye is light perception and in his left eye, 20/20. Following an examination in 2010, his optometrist noted, “Thomas has apparently operated a commercial vehicle for many years and is, in my opinion, capable of continuing this type of work.” Mr. Moore reported that he has driven straight trucks for 23 years, accumulating 230,000 miles. He holds a Class C operator's license from Pennsylvania. His driving record for the last 3 years shows no crashes and no convictions for moving violations in a CMV.

John F. Murphy

Mr. Murphy, 51, has had strabismic amblyopia in his right eye since birth. The best corrected visual acuity in his right eye is hand motion vision and in his left eye, 20/20. Following an examination in 2010, his optometrist noted, “I feel that Mr. Murphy has stable strabismic amblyopia OD that he has had since childbirth. I feel that he has vision to operate a commercial vehicle”. Mr. Murphy reported that he has driven straight trucks for 12 years, accumulating 624,000 miles and tractor-trailer combinations for 15 years accumulating 1.6 million miles. He holds a Class A CDL from Pennsylvania. His driving record for the last 3 years shows no crashes and no convictions for moving violations in a CMV.

Michael O. Regentik

Mr. Regentik, 56, has had central loss of vision in his right eye due to an eye injury that occurred in 1985. The best corrected visual acuity in his right eye is 20/400 and in his left eye, 20/25. Following an examination in 2010, his opthamologist noted, “I am currently obtaining a copy of his previous records to compare against my exam; however, it appears that Mr. Regentik has been driving commerical vehicles for many years with this level of vision. I believe that his vision is sufficient to continue to do so.” Mr. Regentik reported that he has driven straight trucks for 27 years, accumulating 1.1 million miles and tractor-trailer combinations for 5 years accumulating 50,000 miles. He holds a Class A CDL from Michigan. His driving record for the last 3 years shows no crashes and no convictions for moving violations in a CMV.

Larry D. Robinson

Mr. Robinson, 40, has had ambloypia in his left eye since birth. The best corrected visual acuity in his right eye is 20/20 and in his left eye, 20/400. Following an examination in 2010, his optometrist noted, “It is my medical opinion that Larry Robinson has sufficient vision to perform driving tasks required to operate a commercial vehicle.” Mr. Robinson reported that he has driven straight trucks 12 years, accumulating 240,000 miles. He holds a Class B CDL from Missouri. His driving record for the last 3 years shows no crashes and no convictions for moving violations in a CMV.

David Serrano

Mr. Serrano, 46, has had amblyopia in his left eye since childhood. The visual acuity in his right eye is 20/25 and in his left eye, 20/200. Following an examination in 2010, his optometrist noted, “In my medical opinion, Mr. Serrano has sufficient vision to perform the driving tasks required to operate a commercial vehicle.” Mr. Serrano reported that he has driven straight trucks for 2 years, accumulating 6,000 miles and tractor-trailer combinations for 6 years accumulating 36,000 miles. He holds a Class A CDL from Florida. His driving record for the last 3 years shows no crashes and no convictions for moving violations in a CMV.

Bill J. Thierolf

Mr. Thierolf, 55, has had loss of vision in his left eye due to retinal detachment since 1981. The visual acuity in his right eye is 20/20 and in his left eye, count-finger vision. Following an examination in 2010, his optometrist noted, “Mr. Thierolf has sufficient vision to perform the driving tasks required to operate a commercial vehicle.” Mr. Thierolf reported that he has driven straight trucks for 26 years, accumulating 520,000 miles and tractor-trailer combinations for 20 years accumulating 600,000 miles. He holds a Class A CDL from Nebraska. His driving record for the last 3 years shows one crash, which he was not cited for, and no convictions for moving violations in a CMV.

Edward Timpson

Mr. Timpson, 76, has had amblyopia in his right eye since birth. The best corrected visual acuity in his right eye is 20/200 and in his left eye, 20/25. Following an examination in 2010, his optometrist noted, “I certify in my medical opinion that Mr. Timpson has sufficient vision to perform the driving tasks required to operate a commercial vehicle.” Mr. Timpson reported that he has driven tractor-trailer combinations for 58 years accumulating 522,000 miles. He holds a Class 10 operator's license from Rhode Island. His driving record for the last 3 years shows no crashes and no convictions for moving violations in a CMV.

Request for Comments

In accordance with 49 U.S.C. 31136(e) and 31315, FMCSA requests public comment from all interested persons on the exemption petitions described in this notice. The Agency will consider all comments received before the close of business March 24, 2011. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: February 15, 2011.
Larry W. Minor,
Associate Administrator, Office of Policy.

[FR Doc. 2011-3905 Filed 2-18-11; 8:45 am]

BILLING CODE 4910-EX-P